DEPARTMENT OF DEFENSE

Office of the Secretary

Notice of Availability (NOA) of a Draft Environmental Assessment (EA) Addressing the Closure of Former Defense Fuel Support Point (DFSP) Moffett Field Located in Santa Clara County, California

AGENCY: Defense Logistics Agency (DLA), DoD.

ACTION: Notice of Availability (NOA) of a draft Environmental Assessment (EA) addressing the Closure of Former DFSP Moffett Field located at Santa Clara County, California.

SUMMARY: The DLA announces the availability of a draft EA that analyzes the potential environmental impacts associated with the Proposed Action to close the former DFSP, including removal of underground storage tanks and associated pipelines and equipment. The draft EA has been prepared as required under the National Environmental Policy Act (NEPA), (1969). In addition, the draft EA complies with DLA Regulation 1000.22.

Cooperating Agency: National Aeronautics and Space Administration.

DATES: The public comment period will end June 15, 2016.

ADDRESSES: You may submit comments to one of the following:

• Mail: Defense Logistics Agency, Installation Support for Energy, Attn: Stacey Christenbury, 8725 John J. Kingman Road, Room 2828, Fort Belvoir, VA 22060.

• Email: NEPA@dla.mil.

FOR FURTHER INFORMATION CONTACT: Stacey Christenbury at 703-767-6557 during normal business hours Monday through Friday, from 8:00 a.m. to 4:30 p.m. (EST) or by email: NEPA@dla.mil.

SUPPLEMENTARY INFORMATION: Comments received by the end of the 30-day period will be considered when preparing the final version of the document. The draft EA is available in hardcopy at the Mountain View Public Library, located at 585 Franklin Street, Mountain View, California 94041, Phone: (650) 903-6337 or electronically at http://www.dla.mil/Portals/104/Documents/Energy/Publications/E_MoffettUSTClosure_160504.pdf.

Documents referenced in the draft EA are available upon request.

Dated: May 11, 2016.
Aaron Siegel,
Alternate OSD Federal Register Liaison Officer, Department of Defense.

[FR Doc. 2016-11444 Filed 5-13-16; 8:45 am]

BILLING CODE 5001-06-P